DEPARTMENT OF STATE

[Public Notice: 9509]

Shipping Coordinating Committee; Amended Notice of Public Meeting

Notice is hereby given of a change in date and location of the Shipping Coordinating Committee (SHC) meeting announced in the Federal Register on March 17, 2016, 81 FR 14514. The meeting will be held at 9:00 a.m. on May 6, 2016, in the CDR Raymond J. Evans Conference Center, Room 6i10-01-b, of the Douglas A. Munro Coast Guard Headquarters Building at St. Elizabeth's, 2703 Martin Luther King Jr. Avenue SE., Washington, DC 20593. The primary purpose of the meeting is to prepare for the ninety sixth session of the International Maritime Organization's (IMO) Maritime Safety Committee to be held at the IMO Headquarters, United Kingdom, May 11-20, 2016. For the agenda and RSVP information, please refer to the previous Federal Register notice. Please note that requests to attend the meeting, and for reasonable accommodation, must be made not later than April 28, 2016. Requests made after April 28, 2016 might not be able to be accommodated.

Due to security considerations, two valid, government issued photo identifications must be presented to gain entrance to the Headquarters building. It is recommended that attendees arrive to the Headquarters building no later than 30 minutes ahead of the scheduled SHC meeting for the security screening process. The Headquarters building is accessible by taxi and public transportation. Parking in the vicinity of the building is extremely limited and not guaranteed. Additional information is at www.uscg.mil/imo/.

Dated: March 25, 2016.
Jonathan W. Burby,
Executive Secretary, Shipping Coordinating Committee, Department of State.

[FR Doc. 2016-07619 Filed 4-1-16; 8:45 am]

BILLING CODE 4710-09-P